DEPARTMENT OF LABOR

Employment and Training Administration

[TA-W-91,611]

Sherwin Alumina Company, LLC Including On-Site Leased Workers From CCC Group, McWhorter Electric, MMR Constructors, Inc., Dols Managed Workforce, First Instrument Solutions, T. Parker Host, Rexco, GP Strategies, JM Davidson, Palacios Marine & Industrial, All Specialty, LK Jordan, Strom, and St. James Stevedoring Partners, LLC Including Workers Whose Unemployment Insurance (UI) Wages Are Reported Through Host Terminals, Gregory, Texas: Amended Certification Regarding Eligibility To Apply for Worker Adjustment Assistance

In accordance with Section 223 of the Trade Act of 1974, as amended (“Act”), 19 U.S.C. 2273, the Department of Labor issued a Certification of Eligibility to Apply for Worker Adjustment Assistance on June 1, 2016, applicable to workers of Sherwin Alumina Company, LLC, Gregory, Texas. The Department's notice of determination was published in the Federal Register on June 28, 2016 (81 FR 41997).

At the request of State Workforce Office, the Department reviewed the certification for workers of the subject firm. The workers are engaged in activities related to the production of alumina.

New information shows that workers separated from employment at Sherwin Alumina Company, LLC, Gregory, Texas had their wages reported through a separate unemployment insurance (UI) tax account under the name Host Terminals. Host Terminals is a separate entity owned by T. Parker Host.

The intent of the Department's certification is to include all workers of the subject firm who were adversely affected by customer imports of alumina.

Accordingly, the Department is amending this certification to properly reflect this matter.

The amended notice applicable to TA-W-91,611 is hereby issued as follows:

All workers of Sherwin Alumina Company, LLC, including on-site leased workers from CCC Group, McWhorter Electric, MMR Constructors, Inc., DOLS Managed Workforce, First Instrument Solutions, T. Parker Host, Rexco, GP Strategies, JM Davidson, Palacios Marine & Industrial, All Specialty, LK Jordan, Strom, and St. James Stevedoring Partners, LLC, including workers whose unemployment insurance (UI) wages are reported through Host Terminals, Gregory, Texas who became totally or partially separated from employment on or after March 21, 2015 through June 1, 2018, and all workers in the group threatened with total or partial separation from employment on date of certification through two years from the date of certification, are eligible to apply for adjustment assistance under Chapter 2 of Title II of the Trade Act of 1974, as amended.

Signed in Washington, DC this 12th day of July, 2016.
Jessica R. Webster,
Certifying Officer, Office of Trade Adjustment Assistance.

[FR Doc. 2016-18413 Filed 8-3-16; 8:45 am]

BILLING CODE P